DEPARTMENT OF LABOR

Federal Mine Safety and Health Review Commission

Sunshine Act Meeting

January 20, 2004.

Time and Date: 10 a.m., Thursday, January 29, 2004.

Place: Hearing Room, 9th Floor, 601 New Jersey Avenue, NW., Washington, DC.

Status: Open.

Matters To Be Considerd: The Commission will consider and act upon the following in open session:

Secretary of Labor v. Dacotah Cement, Docket No. CENT 2001-218-M. (Issues include whether Dacotah Cement satisfied the task training requirements of 30 CFR 46.7(d) when it permitted two miners to replace a hydraulic hose on a losche mill.)

Any person attending this meeting who requires special accessibility features and/or auxiliary aids, such as sign language interpreters, must inform the Commission in advance of those needs. Subject to 29 CFR 2706.150(a)(3) and 2706.160(d).

Contact Person For More Info: Jean Ellen (202) 434-9950/(202) 708-9300 for TDD Relay 1-800-877-8339 for toll free.

Jean H. Ellen,
Chief Docket Clerk.

[FR Doc. 04-1981 Filed 1-27-04; 1:34 pm]

BILLING CODE 6735-01-M